DEPARTMENT OF HEALTH AND HUMAN SERVICES

Centers for Disease Control and Prevention

[60Day-06-0469]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Program of Cancer Registries—Cancer Surveillance System—Extension (OMB number 0920-0469)—National Center for Chronic Disease Prevention and Health Promotion (NCCDPHP), Centers for Disease Control and Prevention (CDC).

Background and Brief Description

The American Cancer Society estimated that about 1.37 million Americans were newly diagnosed with cancer in 2005 and that about 570,000 died from cancer in that same year. The National Institutes of Health estimates that in 2005, the cost of cancer was about $209 billion, including $74 billion direct costs to treat cancer, and $136 billion indirect costs in lost productivity due to illness and premature death.

In 2002, CDC implemented the National Program of Cancer Registries (NPCR)—Cancer Surveillance System (CSS) to collect, evaluate and disseminate cancer incidence data collected by population-based cancer registries. In 2002, CDC began annually publishing United States Cancer Statistics (USCS). The latest USCS report published in 2005 provided cancer statistics for 93% of the United States population from all cancer registries whose data met national data standards. Prior to the publication of USCS, at the national level, cancer incidence data were available for only 14% of the population of the United States.

With this expanded coverage of the U.S. population, it will now be possible to better describe geographic variation in cancer incidence throughout the country and provide incidence data on minority populations and rare cancers to further plan and evaluate state and national cancer control and prevention efforts.

Therefore, CDCs, NCCDPHP, Division of Cancer Prevention and Control proposes to continue to aggregate existing cancer incidence data from states funded by the National Program of Cancer Registries into a national surveillance system.

These data are already collected and aggregated at the state level. Thus the additional burden for the states is small. Funded states are asked to continue to report cancer incidence data to CDC on an annual basis. Each state is requested to report a cumulative file containing incidence data from the first diagnosis year for which the cancer registry collected data with the assistance of NPCR funds (e.g., 1995) through to 12 months past the close of the most recent diagnosis year (e.g., 2004).

NCCPHP is requesting a 3-year clearance for this project. There are no costs to respondents except their time to participate in the survey.

Estimated Annualized Burden Hours
Respondents | Number of respondents | Number of responses per resondent | Average burden per response (in hours) | Total burden hours
States, Territories, and the District of Columbia (Cancer Registries) | 63 | 1 | 2 | 126
Total |  |  |  | 126

Dated: May 3, 2006.
Joan F. Karr,
Acting Reports Clearance Officer, Centers for Disease Control and Prevention.

[FR Doc. E6-7019 Filed 5-8-06; 8:45 am]

BILLING CODE 4163-18-P